DEPARTMENT OF STATE

[Public Notice 7660]

Certification Related to Guatemalan Armed Forces Under Section 7045(D) of the Department of State, Foreign Operations, and Related Programs Appropriations Act, 2010 (Division F, Pub. L. 111-117), as Carried Forward by the Full-Year Continuing Appropriations Act, 2011 (Division B, Pub. L. 112-10)

Pursuant to the authority vested in me as Deputy Secretary of State, including under Section 7045(d) of the Department of State, Foreign Operations, and Related Programs Appropriations Act, 2010 (Div. F, Pub. L. 111-117) (“the Act”), as carried forward by the Full-Year Continuing Appropriations Act, 2011 (Div. B, Pub. L. 112-10), and Delegation of Authority No. 245-1, I hereby certify that:

(A) The Guatemalan Air Force, Navy, and Army Corps of Engineers are respecting internationally recognized human rights;

(B) The Guatemalan Air Force, Navy, and Army Corps of Engineers are cooperating with civilian judicial investigations and prosecutions of current and retired military personnel who have been credibly alleged to have committed violations of such rights, including protecting and providing to the Attorney General's office all military archives pertaining to the internal armed conflict; and

(C) The Guatemalan Air Force, Navy, and Army Corps of Engineers are cooperating with the International Commission Against Impunity in Guatemala (CICIG) by granting access to CICIG personnel, providing evidence to CICIG, and allowing witness testimony.

This Certification shall be published in the Federal Register, and copies shall be transmitted to the appropriate committees of Congress.

Dated: August 15, 2011.
Thomas R. Nides,
Deputy Secretary for Management and Resource.

[FR Doc. 2011-27065 Filed 10-18-11; 8:45 am]

BILLING CODE 4710-29-P